DEPARTMENT OF EDUCATION

Notice Announcing OMB Approval of Information Collection

AGENCY: Office of Vocational and Adult Education, U.S. Department of Education.

ACTION: Notice announcing OMB Approval of Information Collection.

SUMMARY: The Department of Education (Department) announces that the Office of Management and Budget (OMB) has approved the collection of information identified in this notice, following the Department's submission of a request for approval under the Paperwork Reduction Act of 1995 (PRA) (44 U.S.C. 3501 et seq.). This notice describes the information collection that has been approved, the OMB control number of that collection, and the current expiration date of the collection.

FOR FURTHER INFORMATION CONTACT: Mike Dean, U.S. Department of Education, 400 Maryland Avenue, SW., room 11152, Potomac Center Plaza, Washington, DC 20202-7240. Telephone: (202) 245-7828 or via Internet: Mike.Dean@ed.gov.

If you use a telecommunications device for the deaf (TDD), you may call the Federal Relay Service (FRS) at 1-800-877-8339. Individuals with disabilities may obtain this document in an alternate format (e.g., Braille, large print, audiotape, or computer diskette) on request to any of the contact people listed in this section.

SUPPLEMENTARY INFORMATION: The PRA and its implementing regulations require Federal agencies to display OMB control numbers and inform respondents of their legal significance after OMB has approved an agency's information collections. In accordance with those requirements, the Department notifies the public that the following information collection has been approved (or re-approved) by OMB following the Department's submission of an information collection request (ICR):

• OMB Control No. 1830-0567, Measuring Educational Gain in the National Reporting System for Adult Education. The expiration date for this information collection is February 28, 2011.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: April 2, 2008.
Troy R. Justesen,
Assistant Secretary for Vocational and Adult Education.

[FR Doc. E8-7215 Filed 4-4-08; 8:45 am]

BILLING CODE 4000-01-P